DEPARTMENT OF COMMERCE

United States Patent and Trademark Office

Submissions Regarding Correspondence and Regarding Attorney Representation (Trademarks)

ACTION: Proposed collection; comment request.

SUMMARY: The United States Patent and Trademark Office (USPTO), as part of its continuing effort to reduce paperwork and respondent burden, invites the general public and other Federal agencies to take this opportunity to comment on the extension of a continuing information collection, as required by the Paperwork Reduction Act of 1995, Public Law 104-13 (44 U.S.C. 3506(c)(2)(A)).

DATES: Written comments must be submitted on or before June 16, 2008.

ADDRESSES: You may submit comments by any of the following methods:

E-mail: Susan.Fawcett@uspto.gov. Include “0651-0056 comment” in the subject line of the message.

Fax: 571-273-0112, marked to the attention of Susan K. Fawcett.

Mail: Susan K. Fawcett, Records Officer, Office of the Chief Information Officer, Customer Information Services Group, Public Information Services Division, U.S. Patent and Trademark Office, P.O. Box 1450, Alexandria, VA 22313-1450. Federal e-Rulemaking Portal: http://www.regulations.gov.

FOR FURTHER INFORMATION CONTACT: Requests for additional information should be directed to the attention of Janis Long, Attorney Advisor, Office of the Commissioner for Trademarks, United States Patent and Trademark Office, P.O. Box 1450, Alexandria, VA 22313-1450; by telephone at 571-272-9573; or by e-mail at janis.long@uspto.gov.

SUPPLEMENTARY INFORMATION:

I. Abstract

The United States Patent and Trademark Office (USPTO) administers the Trademark Act, 15 U.S.C. 1051 et seq., which provides for the Federal registration of trademarks, service marks, collective trademarks and service marks, collective membership marks, and certification marks. Individuals and businesses that use, or intend to use such marks in commerce may file an application to register their marks with the USPTO. Registered marks remain on the register indefinitely so long as the owner of the registration files the necessary maintenance documents.

Such individuals and businesses may also submit various communications to the USPTO regarding their pending applications or registered trademarks, including providing additional information needed to process a pending application, filing amendments to the applications, or filing the papers necessary to keep a trademark in force. In the majority of circumstances, individuals and businesses retain attorneys to handle these matters. As such, these parties may also submit communications to the USPTO regarding the appointment of attorneys of record or domestic representatives to represent applicants in the application process, the revocation of an attorney 's appointment, and requests for permission to withdraw from representation. Applicants and registrants may also submit change of owner's address forms requesting that the USPTO amend the record of an application or registration by entering a new address for the applicant or registrant.

The rules implementing the Trademark Act are set forth in 37 CFR Part 2. In addition to governing the registration of trademarks, the Act and rules also govern the appointments and revocations of attorneys and domestic representatives. The trademark rules provide the specifics for filing requests for permission to withdraw as the attorney of record. The requirements for changes of the owner's address are not governed by the trademark rules, but are outlined in the USPTO's procedures. The information in this collection is available to the public.

The information in this collection can be submitted in paper format or electronically through the Trademark Electronic Application System (TEAS). However, there are no official paper forms for these items. Individuals and businesses can submit their own paper forms, following the USPTO's rules and guidelines to ensure that all of the necessary information is provided. This collection contains three electronic forms.

II. Method of Collection

Electronically if applicants submit the information using the TEAS forms. By mail or hand delivery if applicants choose to submit the information in paper form.

III. Data

OMB Number: 0651-0056.

Form Number(s): PTO Forms 2196, 2197, and 2201.

Type of Review: Extension of a currently approved collection.

Affected Public: Primarily business or other for-profit organizations.

Estimated Number of Respondents: 160,004 responses per year.

Estimated Time per Response: The USPTO estimates that it takes the public approximately 3 minutes (0.05 hours) to 15 minutes (0.25 hours) to complete this information, depending on the application. This includes the time to gather the necessary information, prepare the applications, and submit the completed application to the USPTO. The time estimates shown for the electronic forms in this collection are based on the average amount of time needed to complete and electronically file the associated form.

Estimated Total Annual Respondent Burden Hours: 12,491 hours.

Estimated Total Annual Respondent Cost Burden: $3,797,264. The USPTO believes that associate attorneys will complete these submissions. The professional hourly rate for associate attorneys in private firms is $304. Using this hourly rate, the USPTO estimates that the total respondent cost burden for this collection is $3,797,264.

Item | Estimated time for response (min) | Estimated annual responses | Estimated annual burden hours
Revocation of Attorney/Domestic Representative and/or Appointment of Attorney/Domestic Representative | 6 | 13,128 | 1,313
TEAS Revocation of Attorney/Domestic Representative and/or Appointment of Attorney/Domestic Representative (PTO Form 2196) | 5 | 105,023 | 8,402
Request for Permission to Withdraw as Attorney of Record | 15 | 427 | 107
TEAS Request for Permission to Withdraw as Attorney of Record (PTO Form 2201) | 12 | 3,419 | 684
Change of Owner's Address | 4 | 4,223 | 296
TEAS Change of Owner's Address (PTO Form 2197) | 3 | 33,784 | 1,689
Total | 160,004 | 12,491 |

Estimated Total Annual Non-hour Respondent Cost Burden: $7,317. There are postage costs associated with this information collection. This collection does not have any capital start-up, operating, maintenance, or recordkeeping costs, nor does it have filing fees.

Customers incur postage costs when submitting the non-electronic information to the USPTO by mail through the United States Postal Service. The USPTO estimates that the majority (98%) of the paper forms are submitted to the USPTO via first class mail. Out of 17,778 paper forms, the USPTO estimates that 17,422 forms will be mailed , with a first class postage cost of 42 cents (as of May 12, 2008). Therefore, the USPTO estimates that the total non-hour respondent cost burden for this collection, in the form of postage costs, is $7,317 per year.

Item | Responses (yr) (a) | Postage costs (b) | Total cost (yr) (a) × (b)
Revocation of Attorney/Domestic Representative and/or Appointment of Attorney/Domestic Representative | 12,865 | $0.42 | $5,403.00
Request for Permission to Withdraw as Attorney of Record | 418 | 0.42 | 176.00
Change of Owner's Address Form | 4,139 | 0.42 | 1,738.00
Total | 17,422 |  | 7,317.00

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized or included in the request for OMB approval of this information collection; they also will become a matter of public record.

Dated: April 8, 2008.
Susan K. Fawcett,
Records Officer, USPTO, Office of the Chief Information Officer, Customer Information Services Group, Public Information Services Division.

[FR Doc. E8-7980 Filed 4-14-08; 8:45 am]

BILLING CODE 3510-16-P